DEPARTMENT OF COMMERCE

Submission for OMB Review; Comment Request

The Department of Commerce will submit to the Office of Management and Budget (OMB) for clearance the following proposal for collection of information under the provisions of the Paperwork Reduction Act (44 U.S.C. Chapter 35).

Agency: National Oceanic and Atmospheric Administration (NOAA).

Title: Foreign Fishing Vessels Operating in Internal Waters.

OMB Control Number: 0648-0329.

Form Number(s): NA.

Type of Request: Regular submission (extension of a currently approved collection).

Number of Respondents: 2.

Average Hours Per Response: 30 minutes.

Burden Hours: 12.

Needs and Uses: Foreign fishing vessels, granted permission by a governor of a State to engage in fish processing within the internal waters of that State, are required under the Magnuson-Stevens Fishery Conservation and Management Act to report the tonnage and location of fish received from vessels of the United States. The fish processing includes, in addition to processing, other activity relating to fishing such as preparation, supply, storage, refrigeration, or transportation. Weekly reports are submitted to the National Marine Fisheries Service Regional Administrator to allow monitoring of fish received by foreign vessels.

Affected Public: Business or other for-profit organizations.

Frequency: Weekly.

Respondent's Obligation: Mandatory.

OMB Desk Officer: David Rostker, (202) 395-3897.

Copies of the above information collection proposal can be obtained by calling or writing Diana Hynek, Departmental Paperwork Clearance Officer, (202) 482-0266, Department of Commerce, Room 6616, 14th and Constitution Avenue, NW., Washington, DC 20230 (or via the Internet at dHynek@doc.gov).

Written comments and recommendations for the proposed information collection should be sent within 30 days of publication of this notice to David Rostker, OMB Desk Officer, FAX number (202) 395-7285, or David_Rostker@omb.eop.gov.

Dated: July 9, 2010.
Gwellnar Banks,
Management Analyst, Office of the Chief Information Officer.

[FR Doc. 2010-17185 Filed 7-14-10; 8:45 am]

BILLING CODE 3510-22-P